DEPARTMENT OF COMMERCE

International Trade Administration

Notice of Scope Rulings

AGENCY: Enforcement and Compliance, International Trade Administration, Department of Commerce.

SUMMARY: The Department of Commerce (Commerce) hereby publishes a list of scope rulings and anticircumvention determinations made between October 1, 2016, and December 31, 2016, inclusive. We intend to publish future lists after the close of the next calendar quarter.

FOR FURTHER INFORMATION CONTACT: Brenda E. Brown, AD/CVD Operations, Customs Liaison Unit, Enforcement and Compliance, International Trade Administration, U.S. Department of Commerce, 1401 Constitution Avenue NW, Washington, DC 20230; telephone: 202-482-4735.

DATES: Applicable May 22, 2018.

SUPPLEMENTARY INFORMATION:

Background

Commerce regulations provide that the Secretary will publish in the Federal Register a list of scope rulings on a quarterly basis.¹ Our most recent notification of scope rulings was published on October 20, 2017.² This current notice covers all scope rulings and anticircumvention determinations made by Enforcement and Compliance between October 1, 2016, and December 31, 2016, inclusive. Four additional subsequent lists will immediately follow to bring these quarterly notices up to date.

¹ See 19 CFR 351.225(o).

² See Notice of Scope Rulings, 82 FR 48799 (October 20, 2017).

Scope Rulings Made Between October 1, 2016 and December 30, 2016:

Mexico

A-201-805: Certain Circular Welded Non-Alloy Steel Pipe From Mexico

Requestor: Whirlpool Corporation; certain steel dryer tubing products produced to ASTM A-513 specifications are not subject to the antidumping duty order on certain circular welded non-alloy steel pipe from Mexico because the products are of U.S. origin. November 7, 2016

People's Republic of China

A-570-967 and C-570-968: Aluminum Extrusions From the People's Republic of China

Requestor: Aluminum Extrusion Fair Trade Committee; certain aluminum extrusions from the People's Republic of China made of series 1xxx aluminum alloy, which are cut-to-length and welded together in the form of a pallet, regardless of producer or exporter, are included in the scope of the antidumping and countervailing duty orders because they meet the definition of merchandise covered by the scope of the orders and do not qualify to be excluded as “finished merchandise; December 7, 2016

A-570-967 and C-570-968: Aluminum Extrusions From the People's Republic of China

Requestor: Seagate Technology LLC; head stack assemblies, components of the hard disk drive which move the read/write heads mounted on the head gimbal assembly over the surface of the spinning discs so that data can be written or retrieved from magnetic storage discs, are outside the scope of the antidumping and countervailing duty orders; December 23, 2016.

A-570-018 and C-570-019: Boltless Steel Shelving Units Prepackaged for Sale from the People's Republic of China

Requestor: J.S. Products, Inc.; boltless steel shelving units prepackaged for sale are not within the scope of the order based on the plain language of the scope because the shelving units at issue must be assembled with bolts while the scope of the Orders defines subject merchandise, in part, as steel shelving in which the vertical and horizontal supports forming the frame are assembled primarily without the use of nuts and bolts; December 12, 2016

A-570-939: Certain Tow-Behind Lawn Groomers and Certain Parts Thereof From the People's Republic of China

Requestor: Jiashan Superpower Tools Co., Ltd. (Superpower); Superpower's aerator components (roller aerators) are outside the scope of the order on lawn groomers from China because they do not have a frame, with an axle or a shaft that rotates a plate with the knives or spikes inserted into it and each model contacts and flattens the soil; October 6, 2016.

A-570-836: Glycine From the People's Republic of China

Requestor: Elan Chemical Co.; natural glycine containing carbon 14 isotopes are within the scope of the antidumping duty order; October 24, 2016.

A-570-970 and C-570-971: Multilayered Wood Flooring From the People's Republic of China

Requestor: Baishan Huafeng Wooden Product Co., Ltd. (Baishan Hufeng); Baishan Hufeng's two-layer wood flooring panel is not within the scope of the Orders on multilayered wood flooring from the PRC because it lacks the requisite two or more layers or plies of wood veneer in combination with a core; October 6, 2016.

A-570-970 and C-570-971: Multilayered Wood Flooring From the People's Republic of China

Requestor: Dunhua Shengda's Wood Industry Co., Ltd. (Dunhua Shengda); Dunhua Shengda's two-layer wood flooring panel is not within the scope of the Orders on multilayered wood flooring from the PRC because it lacks the requisite two or more layers or plies of wood veneer in combination with a core; December 14, 2016.

A-570-886: Polyethylene Retail Carrier Bags From the People's Republic of China

Requestor: L.S. Wholesale Inc.; non-woven polypropylene bags are outside the scope of the order because the scope of the order specifies that the subject merchandise is made of polyethylene film and L.S. Wholesale, Inc.'s non-woven 100 percent polypropylene bags are not made of polyethylene film; October 12, 2016.

A-570-922 and C-570-923: Raw Flexible Magnets From the People's Republic of China

Requestor: Qwik Picz Photo Booth LLC (Qwik); Qwik's Buisness Card Frame, Business Card Frame with Label, and Acrylic Frame are outside the scope of the antidumping and countervailing duty orders on flexible magnets from the PRC; October 13, 2016.

Interested parties are invited to comment on the completeness of this list of completed scope inquiries. Any comments should be submitted to the Deputy Assistant Secretary for AD/CVD Operations, Enforcement and Compliance, International Trade Administration, 1401 Constitution Avenue NW, APO/Dockets Unit, Room 18022, Washington, DC 20230.

This notice is published in accordance with 19 CFR 351.225(o).

Dated: May 16, 2018.
James Maeder,
Associate Deputy Assistant Secretary for Antidumping and Countervailing Duty Operations, performing the duties of Deputy Assistant Secretary for Antidumping and Countervailing Duty Operations.

[FR Doc. 2018-10877 Filed 5-21-18; 8:45 am]

BILLING CODE 3510-DS-P